DEPARTMENT OF DEFENSE

Department of the Army

[Docket ID: USA-2014-0048]

Submission for OMB Review; Comment Request

ACTION: Notice.

SUMMARY: The Department of Defense has submitted to OMB for clearance, the following proposal for collection of information under the provisions of the Paperwork Reduction Act.

DATES: Consideration will be given to all comments received by December 17, 2015.

FOR FURTHER INFORMATION CONTACT: Fred Licari, 571-372-0493.

SUPPLEMENTARY INFORMATION:

Title, Associated Form and OMB Number: Exchange Retail Sales Transaction Data Surveys; OMB Control Number 0702-XXXX.

Type of Request: Existing collection in use without an OMB Control Number.

Number of Respondents: 595,968.

Responses per Respondent: 1.

Annual Responses: 595,968.

Average Burden per Response: 3 minutes.

Annual Burden Hours: 29,798.

Needs and Uses: The information collection requirement is necessary to enable the Exchange to fulfill its mission and enhance the military community by providing a world-wide system of Exchanges with merchandise and household goods similar to commercial stores and services; for use in responding to individual patron satisfaction with the delivery of the Exchange benefit, and in determining the appropriate product availability meeting the Exchange customers' current/future needs and wants; to improve the efficiency and effectiveness of the Exchange's marketing programs; to determine actions required to settle customer complaints; to electronically notify potential customers, who voluntarily provide their email address, and other personal information about shopping at the Exchange using voluntary opt-in procedures.

Affected Public: Individuals or households.

Frequency: On occasion.

Respondent's Obligation: Voluntary.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 02G09, Alexandria, VA 22350-3100.

Dated: November 10, 2015.
Aaron Siegel,
Alternate OSD Federal Register Liaison Officer, Department of Defense.

[FR Doc. 2015-29201 Filed 11-16-15; 8:45 am]

BILLING CODE 5001-06-P